FEDERAL COMMUNICATIONS COMMISSION

47 CFR Part 73

[DA 06-515]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), Amendment of the Commission's Rules to permit FM Channel and Class Modifications by Applications, 8 FCC Rcd 4735 (1993) and Streamlining of Radio Technical Rules in Part 73 and 74 of the Commission's Rules, 15 FCC Rcd 21649 (2000).

DATES: Effective March 15, 2006.

FOR FURTHER INFORMATION CONTACT: Rolanda F. Smith, Media Bureau, (202) 418-2180.

SUPPLEMENTARY INFORMATION: This is a summary of the Commission's Report and Order, adopted March 1, 2006, and released March 3, 2006. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

Part 73 of Title 47 of the Code of Federal Regulations is amended as follows:

PART 73—RADIO BROADCASTING SERVICES

1. The authority citation for part 73 continues to read as follows:

Authority: 47 U.S.C. 154, 303, 334, and 336.

§ 73.202 [Amended]

2. Section 73.202(b), the Table of FM Allotments under Arizona, is amended by removing Channel 261C1 and adding Channel 261C2 at Flagstaff.

3. Section 73.202(b), the Table of FM Allotments under California, is amended by removing Channel 255C and adding Channel 255C0 at Chester.

4. Section 73.202(b), the Table of FM Allotments under Georgia, is amended by removing Channel 231C and adding Channel 231C0 at Smyrna.

5. Section 73.202(b), the Table of FM Allotments under Iowa, is amended by removing Channel 288A and adding Channel 288C3 at Perry.

6. Section 73.202(b), the Table of FM Allotments under Kansas, is amended by removing Channel 293C and adding Channel 293C0 at Arkansas City.

7. Section 73.202(b), the Table of FM Allotments under Louisiana, is amended by removing Channel 233C and adding Channel 233C0 at Shreveport.

8. Section 73.202(b), the Table of FM Allotments under Michigan, is amended by removing Channel 223C and adding Channel 223C1 at Atlanta.

9. Section 73.202(b), the Table of FM Allotments under Mississippi, is amended by removing Channel 279C and adding Channel 279C0 at Hattiesburg.

10. Section 73.202(b), the Table of FM Allotments under Missouri, is amended by removing Channel 227C and Channel 271C and adding Channel 227C0 and Channel 271C0 at Kansas City.

11. Section 73.202(b), the Table of FM Allotments under Montana, is amended by removing Channel 286A and adding Channel 286C at Whitefish.

12. Section 73.202(b), the Table of FM Allotments under New Mexico, is amended by removing Channel 240A and adding Channel 241C3 at Chama.

13. Section 73.202(b), the Table of FM Allotments under Oregon, is amended by removing Channel 230C2 and adding Channel 230C1 at Portland.

14. Section 73.202(b), the Table of FM Allotments under Pennsylvania, is amended by removing Channel 258A and adding Channel 258B1 at Centre Hall.

15. Section 73.202(b), the Table of FM Allotments under South Dakota, is amended by removing Channel 300A and adding Channel 299C2 at Ipswich.

16. Section 73.202(b), the Table of FM Allotments under Texas, is amended by removing Channel 221A and adding Channel 221C3 at Carrizo Springs.

17. Section 73.202(b), the Table of FM Allotments under Washington, is amended by removing Channel 295C and adding Channel 295C1 at Bremerton.

18. Section 73.202(b), the Table of FM Allotments under West Virginia, is amended by removing Channel 279A and adding Channel 279B1 at Fisher.

Federal Communications Commission.
John A. Karousos,
Assistant Chief, Audio Division, Media Bureau.

[FR Doc. 06-2490 Filed 3-14-06; 8:45 am]

BILLING CODE 6712-01-P